DEPARTMENT OF DEFENSE

Department of the Navy

Notice of Intent To Grant Exclusive License; Raytheon IDS

AGENCY: Department of the Navy, DOD.

ACTION: Notice.

SUMMARY: The Department of the Navy gives notice of its intent to grant to Raytheon IDS, MST1FW1, 50 Apple Hill Road, Tewksbury, MA 01876, a revocable, nonassignable, exclusive license to practice in the United States, the Government-Owned inventions, as identified in United States Patent Number 5,520,331 issued on May 28, 1996, Navy Case Number 75983 entitled “Liquid Atomizing Nozzle”.

DATES: Anyone wishing to object to the granting of this license must file written objections along with supporting evidence, if any, not later than November 20, 2009.

ADDRESSES: Written objections are to be filed with Naval Air Warfare Center Aircraft Division, Business and Partnership Office, Office of Research and Technology Applications, Building 505, Room 117, 22473 Millstone Road, Patuxent River, Maryland 20670.

FOR FURTHER INFORMATION CONTACT: Mr. Paul Fritz, Naval Air Warfare Center Aircraft Division, Business and Partnership Office, Office of Research and Technology Applications, Building 505, Room 117, 22473 Millstone Road, Patuxent River, Maryland 20670, telephone (301) 342-5586, fax: (301) 342-1134, e-mail: paul.fritz@navy.mil.

Authority: 35 U.S.C. 207, 37 CFR Part 404.

Dated: October 29, 2009.
A.M. Vallandingham,
Lieutenant Commander, Office of the Judge Advocate General, U.S. Navy, Federal Register Liaison Officer.

[FR Doc. E9-26656 Filed 11-4-09; 8:45 am]

BILLING CODE 3810-FF-P